DEPARTMENT OF THE INTERIOR

National Park Service

[NPS-WASO-NAGPRA-14694; PPWOCRADN0-PCU00RP14.R50000]

Notice of Inventory Completion: Museum of Anthropology at Washington State University, Pullman, WA

AGENCY: National Park Service, Interior.

ACTION: Notice.

SUMMARY: The Museum of Anthropology at Washington State University has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Museum of Anthropology at Washington State University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Museum of Anthropology at Washington State University at the address in this notice by March 6, 2014.

ADDRESSES: Mary Collins, Museum of Anthropology at Washington State University, P.O. Box 644910 Pullman, WA 99164, telephone (509) 335-4314, email collinsm@wsu.edu.

SUPPLEMENTARY INFORMATION: Notice is here given in accordance with the Native American Graves Protection and Repatriation Act (NAGPRA), 25 U.S.C. 3003, of the completion of an inventory of human remains and associated funerary objects under the control of the Museum of Anthropology at Washington State University. The human remains and associated funerary objects were removed from Walla Walla County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum of Anthropology at Washington State University professional staff in consultation with representatives of the Confederated Tribes of the Umatilla Indian Reservation (previously listed as the Confederated Tribes of the Umatilla Reservation, Oregon).

History and Description of the Remains

Sometime before 2000, possibly in 1988, human remains representing, at minimum, one individual were removed from an unknown location in Walla Walla County, WA. The human remains were at the University of Idaho from some unknown date until 2000, when they were transferred to the Museum of Anthropology at Washington State University. Notes at the University of Idaho state the human remains were collected on March 21, 1988, but no additional information was located. No known individuals were identified. The eight associated funerary objects are 2 freshwater mussel shells, 1 bone awl, 2 smooth pebbles, 2 fragmentary pieces of bird bone, and 1 fragment of a chipped stone tool.

The human remains were determined to be Native American based on the nature of the dental wear and the character of the associated funerary objects. Present-day cultural affiliation was based on the generalized location from which the remains were removed in Walla Walla County, WA. The character of the associated funerary objects suggests the human remains probably date to the late prehistoric period or between 2000 and 500 years ago.

Determinations Made by the Museum of Anthropology at Washington State University

Officials of the Museum of Anthropology at Washington State University have determined that:

• Pursuant to 25 U.S.C. 3001(9), the human remains described in this notice represent the physical remains of one individual of Native American ancestry.

• Pursuant to 25 U.S.C. 3001(3)(A), the eight objects described in this notice are reasonably believed to have been placed with or near individual human remains at the time of death or later as part of the death rite or ceremony.

• Pursuant to 25 U.S.C. 3001(2), there is a relationship of shared group identity that can be reasonably traced between the Native American human remains and associated funerary objects and the Confederated Tribes of the Umatilla Indian Reservation (previously listed as the Confederated Tribes of the Umatilla Reservation, Oregon).

Additional Requestors and Disposition

Lineal descendants or representatives of any Indian tribe or Native Hawaiian organization not identified in this notice that wish to request transfer of control of these human remains and associated funerary objects should submit a written request with information in support of the request to Mary Collins, Museum of Anthropology at Washington State University, P.O. Box 644910 Pullman, WA 99164, telephone (509) 335-4314, email collinsm@wsu.edu, by March 6, 2014. After that date, if no additional requestors have come forward, transfer of control of the human remains and associated funerary objects to the Confederated Tribes of the Umatilla Indian Reservation (previously listed as the Confederated Tribes of the Umatilla Reservation, Oregon) may proceed.

The Museum of Anthropology at Washington State University is responsible for notifying the Confederated Tribes of the Umatilla Indian Reservation (previously listed as the Confederated Tribes of the Umatilla Reservation, Oregon) that this notice has been published.

Dated: December 18, 2013.
Melanie O'Brien,
Acting Manager, National NAGPRA Program.

[FR Doc. 2014-02336 Filed 2-3-14; 8:45 am]

BILLING CODE 4312-50-P